DEPARTMENT OF TRANSPORTATION

Federal Aviation Administration

RTCA, Inc.; RTCA Government/Industry Free Flight Steering Committee

Cancellation

The April 2-6 RTCA Government/Industry Free Flight Steering Committee meeting announced in the Federal Register, 66 FR 15316 (Thursday, March 16, 2001), second column, has been canceled. It was submitted in error and should have announced RTCA Special Committee (SC)-193/EUROCAE Working Group 44 meeting in Brussels, Belgium. A new notice for SC-193 will be published.

Persons wishing to obtain further information should contact RTCA at (202) 833-9339 (phone), (202) 833-9434 (fax), or dclarke@rtca.org (e-mail).

Issued in Washington, DC, on March 20, 2001.
Janice L. Peters,
Designated Official.

[FR Doc. 01-7423 Filed 3-23-01; 8:45 am]

BILLING CODE 4910-13-M